DEPARTMENT OF STATE

[Delegation of Authority 175-5]

Changes to and Further Assignment of Functions Under Section 208 of Title 18 of the United States Code

AGENCY: Department of State.

ACTION: Changes to and further assignment of functions.

SUMMARY: Delegations of Authority No. 175 and 245-1 delegated authority from the Secretary of State to the Deputy Secretary of State and the Deputy Secretary of State for Management and Resources all authorities vested in the Secretary of State, to include issuing waivers pursuant to 18 U.S.C. 208 to Department of State employees. In 2003, the Deputy Secretary of State redelegated authority to the Legal Adviser to issue certain waivers under 18 U.S.C. 208(b)(1) and (3). In 2006, the Deputy Secretary of State delegated to the Legal Adviser and the Under Secretary for Management the authority to issue financial interest waiver determinations to (1) Seventh Floor principals when the waiver is applicable for a specific activity, when a principal is seeking employment by an international organization, or when the waiver does not exceed six months; and (2) other Department employees (including advisory committee members) under any circumstances. This notice informs the public of the further delegation of authority from the Deputy Secretary for Management and Resource to the Legal Adviser and the Under Secretary for Management to issue all waivers under 18 U.S.C. 208(b)(1) and (3), except for waivers to the Secretary of State.

DATES: These actions are effective immediately.

Delegation of Authority: By virtue of the authority vested in me as Deputy Secretary of State for Management and Resources, including the authorities specified in Delegations of Authority 175 and 245-1, I hereby delegate to the Legal Adviser and the Under Secretary for Management the authority pursuant to 18 U.S.C. 208(b)(1) and (3) to issue waiver determinations with respect to financial interests to Department of State employees, including Seventh Floor principals, regardless of the amount of the affected financial interest. This delegation shall not, however, authorize the issuance of waiver determinations to the Secretary of State.

The Delegation supersedes Delegation of Authority 175-4.

At his or her discretion, the Legal Adviser may refer any waiver request for issuance by the Secretary, the Deputy Secretary, the Deputy Secretary for Management and Resources, or the Under Secretary for Management.

Notwithstanding this delegation of authority, the Secretary, the Deputy Secretary, the Deputy Secretary for Management and Resources, and the Under Secretary for Management may at any time exercise the functions herein delegated.

This delegation of authority shall be published in the Federal Register.

Dated: September 29, 2009.
Jacob J. Lew,
Deputy Secretary of State for Management and Resources, Department of State.

[FR Doc. E9-24541 Filed 10-9-09; 8:45 am]

BILLING CODE 4710-35-P